DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. App. 26, the following railroads have petitioned the Federal Railroad Administration (FRA) seeking approval for the discontinuance or modification of the signal system or relief from the requirements of 49 CFR part 236 as detailed below.

Docket No. FRA-2000-7634.

Applicant: Burlington Northern and Santa Fe Railway, Mr. William G. Peterson, Director Signal Engineering, 4515 Kansas Avenue, Kansas City, Kansas 66106.

Burlington Northern and Santa Fe Railway (BNSF) seeks conditional relief from the requirements of Title 49 CFR, part 236, § 236.102(b) of the Rules, Standards, and Instructions, for the entire BNSF system, to the extent that those searchlight signal mechanisms, that have circuitry designed to automatically detect a sticking mechanism and automatically protect for the safety of train movements, not be required to be inspected and the mechanical movement of the mechanism observed operating to all positions, at least once every six months.

Applicants' justification for relief: Stuck mechanism circuits used in Vital Harmon Logic Controllers (VHLC), Wayside Interface Units (WIU), Microprocessor based coded track and control equipment, and relay based stuck mechanism circuits, continuously monitor searchlight mechanisms.

Any interested party desiring to protest the granting of an application shall set forth specifically the grounds upon which the protest is made and contain a concise statement of the interest of the Protestant in the proceeding. Additionally, one copy of the protest shall be furnished to the applicant at the address listed above.

All communications concerning this proceeding should be identified by the docket number and must be submitted to the Docket Clerk, DOT Central Docket Management Facility, Room PL-401, Washington, DC 20590-0001. Communications received within 45 days of the date of this notice will be considered by FRA before final action is taken. Comments received after that date will be considered as far as practicable. All written communications concerning these proceedings are available for examination during regular business hours (9 am-5 pm) at the above address. All documents in the public docket are also available for inspection and copying on the internet at the docket facility's web sit at http://dms.dot.gov.

FRA expects to be able to determine these matters without an oral hearing. However, if a specific request for an oral hearing is accompanied by a showing that the party is unable to adequately present his or her position by written statements, an application may be set for public hearing.

Issued in Washington, D.C. on October 18, 2000.
Grady C. Cothen, Jr.,
Deputy Associate Administrator for Safety Standards and Program Development.

[FR Doc. 00-27317 Filed 10-24-00; 8:45 am]

BILLING CODE 4910-06-P